DEPARTMENT OF LABOR

Employment and Training Administration

[TA-W-71,663]

Johnson Controls Including Workers Whose Wages Were Reported Under IMECO LLC; North American Refrigeration Dixon, IL; Amended Certification Regarding Eligibility To Apply for Worker Adjustment Assistance

In accordance with Section 223 of the Trade Act of 1974, as amended (“Act”), 19 U.S.C. 2273, the Department of Labor (Department) issued a Certification of Eligibility to Apply for Worker Adjustment Assistance on July 27, 2009 applicable to workers and former workers of Johnson Controls, North American Refrigeration, Dixon, Illinois (subject firm). The workers were engaged in activities related to the production of air handling products such as evaporators, condensers, hygienic air handlers, cooling towers, and fluid coolers. Workers were not separately identifiable by article produced.

At the request of the State of Illinois, the Department reviewed the certification for workers of the subject firm. New information revealed that workers separated from the subject firm had wages reported under the name Imeco LLC.

The amended notice applicable to TA-W-71,663 is hereby issued as follows:

All workers of Johnson Controls, including workers whose wages were reported under Imeco LLC, North American Refrigeration, Dixon, Illinois, who became totally or partially separated from employment on or after July 14, 2008, through July 27, 2011, and all workers in the group threatened with total or partial separation from employment on July 27, 2009 through July 27, 2011, are eligible to apply for adjustment assistance under Chapter 2 of Title II of the Trade Act of 1974, as amended.

Signed in Washington, DC, this 18th day of September, 2012.
Del Min Amy Chen,
Certifying Officer, Office of Trade Adjustment Assistance.

[FR Doc. 2012-24057 Filed 9-28-12; 8:45 am]

BILLING CODE 4510-FN-P